DEPARTMENT OF THE INTERIOR

National Park Service

Minor Boundary Revision at Colorado National Monument

AGENCY: National Park Service, Interior.

ACTION: Notification of Boundary Revision.

SUMMARY: Notice is hereby given that, pursuant to 16 U.S.C. 460l-9(c)(1), the boundary of Colorado National Monument is modified to include an additional two and forty-five hundredths (2.45) acres of land identified as Tract 01-140, tax parcel number 2697-343-04-009. The land is located in Mesa County, Colorado, immediately adjacent to the current eastern boundary of Colorado National Monument. The boundary revision is depicted on Map No. 119/106,532 dated January 2011. The map is available for inspection at the following locations: National Park Service, Intermountain Land Resources Program Center, 12795 W. Alameda Parkway, Lakewood, CO 80225-0287 and National Park Service, Department of the Interior, Washington, DC 20240.

FOR FURTHER INFORMATION CONTACT: National Park Service, Glenna F. Vigil, Chief, Land Resources Program Center, Intermountain Region, P.O. Box 25287, Denver, Colorado 80225-0287, (303) 969-2610.

DATES: The effective date of this boundary revision is November 23, 2011.

SUPPLEMENTARY INFORMATION: 16 U.S.C. 460l-9(c)(1) provides that, after notifying the House Committee on Natural Resources and the Senate Committee on Energy and Natural Resources, the Secretary of the Interior is authorized to make this boundary revision upon publication of notice in the Federal Register. The Committees have been notified of this boundary revision. Inclusion of these lands within the monument boundary will enable the landowner to sell the subject land to the National Park Service. The inclusion and acquisition of this property will enable the National Park Service to provide expanded parking facilities at the Lower Monument Canyon Trailhead. Additionally, the boundary revision will provide increased visitor safety while entering and exiting the Lower Monument Canyon Trailhead Parking Area and will prevent further damage to the natural and cultural resources in the area.

Dated: June 20, 2011.
John Wessels,
Regional Director, Intermountain Region.

[FR Doc. 2011-30167 Filed 11-22-11; 8:45 am]

BILLING CODE 4312-CP-P